DEPARTMENT OF HEALTH AND HUMAN SERVICES

Office of the Secretary

Office of Resources and Technology; Statement of Organization, Functions, and Delegations of Authority

Part A, Office of the Secretary, Statement of Organization, Functions and Delegations of Authority for the Department of Health and Human Services (HHS) is being amended as Chapter AM, Office of Resources and Technology, as last amended 68 FR 11555-62, dated March 11, 2003; and most recently at 72 FR 2282-83, dated January 18, 2007. The reorganization will even out the management responsibilities within the office. The changes are as follows:

I. Under Chapter AM, Section AML.20 Functions, Paragraph 1, “Division of Discretionary Programs (AML1)” delete in its entirety and replace with the following:

1. Division of Discretionary Programs (AML1): The Division of Discretionary Programs:

a. Provides analytical services and assistance to the Secretary, the Assistant Secretary for Resources and Technology (ASRT), and HHS Operating Division (OPDIV) Heads in their budgetary management of the Department's principal discretionary programs, including science and health services programs administered by the Public Health Service components; and social service programs of the Administration for Children and Families and the Administration on Aging.

b. Reviews budgets and related requests for resources, and analyzes plans and proposals for new or alternative legislation.

c. Analyzes proposed regulations, reorganizations, or program initiatives to determine their policy, resource and management implications.

d. Proposes recommendations on draft regulations, proposed legislation and reorganization proposals.

e. Proposes budget options and policy initiatives as necessary to achieve program objectives established by the Secretary.

f. Assists in the development of strategies for the presentation of the budget to the Office of Management and Budget (OMB) and the Congress, and develops materials for key Departmental officials who testify at hearings before these bodies.

g. Provides guidance to OPDIVs in the formulation of their budgets.

h. Conducts special reviews and analyses to examine assigned OPDIV program operations and management effectiveness.

i. Assists in the development of performance plans, reports, and program assessments under the Government Performance and Results Act.

j. Assists in the presentation of the Department's budget to the public by developing material for use of Departmental officials, and reviews press statements and other public documents for consistency with approved budgets and plans.

k. Assists in the presentation of the Department's budget to the public by developing materials for use by Departmental officials, and reviews press statements and other public documents for consistency with approved budgets and plans.

l. reviews and analyzes the budgets of the Staff Divisions (STAFFDIVS) funded by the General Departmental Management (GDM), Office of Inspector General (OIG) and Office for Civil Rights (OCR) appropriations. Prepares special analyses of these budgets for use in decision-making, particularly for evaluating capacity and determining if alternative approaches are feasible. Monitors Congressional appropriations hearings in which the GDM STAFFDIVS, OIG and OCR are participants.

m. Works closely with OASAM in planning and formulating the GDM budget justification for presentation to the Secretary, OMB and the Congress.

n. Provides staff assistance to the Secretary, the ASRT, the Service and Supply Funds (SSF) Board of Directors, OPDIV Budget Officers and STAFFDIV Heads in the budgetary and financial management of the SSF.

o. Provides for budget policy management and financial integrity of the SSF in the provision of Departmental common sue administrative services.

p. Assists in the planning and preparation of the SSF budget for presentation to the SSF Board, the OMB, and Congress.

q. Prepares apportionment requests for the SSF.

II. Under Chapter AM, Section AML.20 Functions, Paragraph 3, “Division of Budget Policy, Execution and Review (AML4),” delete in its entirety and replace with the following:

3. Division of Budget Policy, Execution and Review (AML4). The Division of Budget Policy, Execution and Review (DBPER):

a. Directs the formulation and presentation of the HHS budget by developing and promulgating to the OPDIVs and others the policies, procedures, guidance, and schedules for preparing budget submissions.

b. Coordinates the presentation of the Department's budget and performance plan to Congress, including preparation and submission of justifications, reports, significant items, and crosscutting materials; preparation of the Secretary's testimony before the Appropriations Committees; and coordination of transcripts, questions for the record, and other hearing materials.

c. Provides advice and analysis to support Department-wide budget decision-making.

d. Maintains active communication with Department budget officers with regard to budget events and activities with OMB, GAO, Congress and other parties.

e. Manages a computerized budget information system reflecting data on a HHS-wide basis and coordinates OPDIV input into the system.

f. Provides direct staff support to the Secretary in preparation for appropriation hearings and other budget-related presentations and briefings.

g. Actively communicates with the Budget and Appropriations Committees in the Congress and provides intelligence and analyses of budget decisions to senior HHS staff and the OPDIVs.

h. Coordinates preparation of guidelines governing reprogrammings, transfers between accounts, and other crosscutting funding methods; provides recommendations and staff support in managing and processing crosscutting funding proposals.

i. Analyzes and prepares reports on HHS performance in managing Full Time Equivalent (FTE) levels and in implementing FTE policy, and provides expert advice on Department-wide staffing.

j. Provides leadership and direction in the Department-wide review, analysis and appraisal of financial elements of program execution and the development and execution of policies related to efficient allocation, expenditure and control of funds.

k. Coordinates and tracks outlay projections: (1) To assist OMB in the continuing effort to monitor spending and to thereby improve the management of the Government's overall cash and debt operations; and (2) in support of formulation of the budget, including the maintenance of HHS ceiling controls and the development of outlay estimates shown in the President's Budget for controllable program.

l. Promulgates Departmental spending policies, especially in the events of Continuing Resolutions and possible suspension of operations due to the failure of the Congress to enact appropriations on time, and works with agency budget officers and the OMB in formulating agency funding plans.

m. Maintains a system of Department-wide budget execution, including the management and control of the apportionment of funds in accordance with the requirements of the Anti-Deficiency Act and OMB regulations; and requests and monitors the receipt of Treasury warrants.

n. Serves as principal staff advisor to the ASRT on all matters involving budget execution.

o. Acts as liaison on behalf of HHS with OMB, the Treasury Department, the Congressional Budget Office, and other agencies on matters involving budget execution.

p. Responsible for the development and maintenance of a system of financial information which involves the collection, organization, and maintenance of financial data in electronic form as well as the development of reporting mechanisms for making the financial information useful and available for decisionmaking.

q. Represents the Department in government-wide activities to implement the development and implementation of performance measures and budget-related performance planning policies, requirements and processes. Manages program performance assessment activities.

r. Provides special management review services for selected activities.

Dated: September 18, 2007.
Joe W. Ellis,
Assistant Secretary for Administration and Management.

[FR Doc. 07-4859 Filed 10-1-07; 8:45 am]

BILLING CODE 4150-04-M